ELECTION ASSISTANCE COMMISSION

Sunshine Act Meetings

AGENCY: Election Assistance Commission.

DATE & TIME: Tuesday, March 31, 2015 AT 10:00 a.m.

PLACE: 1335 East-West Highway (First Floor Conference Room), Silver Spring, MD 20910.

STATUS: This Meeting Will Be Open To The Public

ITEMS FOR DISCUSSION AND CONSIDERATION:

• Draft Voluntary Voting Systems Guidelines (VVSG 1.1)

• Draft Certification Program Procedural Manual, Version 2.0

• Draft Laboratory Accreditation Program Manual, Version 2.0

• Requests for HAVA Funding Advisory Opinions

Agenda

The Commission will receive presentations on the DRAFT Voluntary Voting System Guidelines (VVSG 1.1) and consider the proposed VVSG 1.1 for adoption. The Commission will receive presentations on the DRAFT Certification Program Procedural Manual, Version 2.0, and consider the proposed final document for approval. The Commission will receive presentations on the DRAFT Laboratory Accreditation Program Manual, Version 2.0, and consider the proposed final document for approval. The Commission will consider approval of advisory opinion requests related to expenditure of HAVA funds from the state and local election offices in the States of Pennsylvania, Puerto Rico, Montana, Washington State and California. The Commission will consider other administrative matters.

PERSON TO CONTACT FOR INFORMATION: Bryan Whitener, Telephone: (301) 563-3961.

Submitted: March 24, 2015.
Bryan Whitener,
Director of Communications & Clearinghouse.

[FR Doc. 2015-07090 Filed 3-24-15; 4:15 pm]

BILLING CODE 6820-KF-P